DEPARTMENT OF COMMERCE

International Trade Administration

(A-570-886)

Notice of Amended Final Determination of Sales at Less Than Fair Value: Polyethylene Retail Carrier Bags From the People's Republic of China

AGENCY: Import Administration, International Trade Administration, Department of Commerce.

EFFECTIVE DATE: July 15, 2004.

FOR FURTHER INFORMATION CONTACT: Janis Kalnins or Thomas Schauer, Import Administration, International Trade Administration, U.S. Department of Commerce, 14th Street and Constitution Avenue, N.W., Washington, D.C. 20230; telephone: (202) 482-1392 and (202) 482-0410, respectively.

SUPPLEMENTARY INFORMATION:

Amendment to the Final Determination

In accordance with sections 735(a) and 777(i)(1) of the Tariff Act of 1930, as amended, (the Act), on June 18, 2004, the Department published its notice of final determination of sales at less than fair value (LTFV) in the investigation of polyethylene retail carrier bags (PRCBs) from the People's Republic of China (PRC). See Notice of Final Determination of Sales at Less Than Fair Value: Polyethylene Retail Carrier Bags from the People's Republic of China, 69 FR 34125 (June 18, 2004) (Final Determination). We received timely ministerial-error allegations from the Polyethylene Retail Carrier Bag Committee and its individual members (collectively, the petitioners) and from Nantong Huasheng Plastic Products Co., Ltd. (Nantong). On June 28, 2004, we received rebuttal comments concerning the petitioners ministerial-error allegations from Zhongshan Dongfeng Hung Wai Plastic Bag Manufactory (Zhongshan). No other party alleged ministerial errors or submitted comments.

After analyzing the submissions, we have determined, in accordance with 19 CFR 351.224(e), that we made the following ministerial errors in our calculations performed for the final determination:

We inadvertently included imports from the Ukraine in our calculation of the surrogate value for low-linear-density resin and included imports from the PRC in our calculation of the surrogate values for black and colored ink.

When we made an adjustment to exclude the aberrational import quantities of several countries (i.e., South Africa, Israel, Switzerland, Italy, and Belgium) from our calculation of the surrogate value for black ink we used the wrong amounts.

We erroneously multiplied Hang Lung Plastic Manufactory, Limited's (Hang Lung's) reported international-freight expense, which was reported in U.S. dollars, by the Hong Kong dollar exchange rate.

We inadvertently did not convert Hang Lung's domestic inland freight from a per-kilogram basis to a per-thousand-bag basis.

We did not include the unit weight (weight per 1,000 bags) in our calculation of Xiamen Ming Pak Plastics Company, Limited's (Ming Pak's) domestic inland freight and brokerage and handling expenses.

We erroneously converted Nantong's reported U.S. prices and international-freight expense from a per-carton basis to a per-thousand-bag basis.

We did not convert the labor consumption that Nantong reported from a per-kilogram basis to a per-carton basis.

We made a typographical error in assigning Nantong's domestic-brokerage and marine-insurance expenses to U.S. sales such that we inadvertently assigned the expenses to all U.S. sales rather than just to those U.S. sales for which Nantong actually incurred such expenses.

Correcting these errors resulted in revised margins for all mandatory respondents, separate rate respondents, and parties subject to the PRC-wide rate. For a detailed discussion of the ministerial errors listed above, as well as the Department's analysis, see the July 6, 2004, Memorandum from Janis Kalnins to Mark Ross entitled “Ministerial Error Allegations in the Final Determination of Sales at Less Than Fair Value; Polyethylene Retail Carrier Bags from the People's Republic of China.”

Therefore, in accordance with 19 CFR 351.224(e), we are amending the final determination of sales at LTFV in the investigation of PRCBs from the PRC. The revised dumping margins are as follows:

Producer & Exporter | Original final margin (percent) | Amended final margin (percent)
Hang Lung Plastic Manufactory, Limited | 0.20 | 0.24
Dongguan Huang Jiang United Wah Plastic Bag Factory | 23.19 | 23.22
Nantong Huasheng Plastic Products Co., Ltd. | 2.29 | 0.01
Rally Plastics Company, Limited | 23.81 | 23.85
Shanghai Glopack Packing Company, Limited and Sea Lake Polyethylene Enterprise, Limited | 19.73 | 19.79
Xiamen Ming Pak Plastics Company, Limited | 35.23 | 35.58
Zhongshan Dongfeng Hung Wai Plastic Bag Manufactory | 41.21 | 41.28
Beijing Lianbin Plastics and Printing Company, Limited | 23.06 | 25.69
Dongguan Zhongqiao | 23.06 | 25.69
Good-in Holdings, Limited | 23.06 | 25.69
Guangdong Esquel | 23.06 | 25.69
Nan Sing | 23.06 | 25.69
Ningbo Fanrong Plastics Products Company, Limited | 23.06 | 25.69
Ningbo Huansen Plasthetics Company, Limited | 23.06 | 25.69
Rain Continent Shanghai Company, Limited | 23.06 | 25.69
Shanghai Dazhi Enterprise Development Company, Limited | 23.06 | 25.69
Shanghai Fangsheng Coloured Packaging Company, Limited | 23.06 | 25.69
Shanghai Jingtai Packaging Material Company, Limited | 23.06 | 25.69
Shanghai Light Industrial Products Import and Export Corporation | 23.06 | 25.69
Shanghai Minmetals Development, Limited | 23.06 | 25.69
Shanghai New Ai Lian Import and Export Company, Limited | 23.06 | 25.69
Shanghai Overseas International Trading Company, Limited | 23.06 | 25.69
Shanghai Yafu Plastics Industries Company, Limited | 23.06 | 25.69
Weihai Weiquan Plastic and Rubber Products Company, Limited | 23.06 | 25.69
Xiamen Xingyatai Industry Company, Limited | 23.06 | 25.69
Xinhui Henglong | 23.06 | 25.69
PRC-wide Rate | 77.33 | 77.57

Separate Rates

In the Final Determination, the Department calculated a weighted-average margin separate from the PRC-wide rate for those companies which provided responses to section A of the antidumping questionnaire. These companies are as follows: Beijing Lianbin Plastics and Printing Company, Limited, Dongguan Zhongqiao, Good-in Holdings, Limited, Guangdong Esquel, Nan Sing, Ningbo Fanrong Plastics Products Company, Limited, Ningbo Huansen Plasthetics Company, Limited, Rain Continent Shanghai Company, Limited, Shanghai Dazhi Enterprise Development Company, Limited, Shanghai Fangsheng Coloured Packaging Company, Limited, Shanghai Jingtai Packaging Material Company, Limited, Shanghai Light Industrial Products Import and Export Corporation, Shanghai Minmetals Development, Limited, Shanghai New Ai Lian Import and Export Company, Limited, Shanghai Overseas International Trading Company, Limited, Shanghai Yafu Plastics Industries Company, Limited, Weihai Weiquan Plastic and Rubber Products Company, Limited, Xiamen Xingyatai Industry Company, Limited, and Xinhui Henglong. We calculated the weighted-average margin for these companies based on the rates we calculated for the selected mandatory respondents. Because the rates of the selected mandatory respondents have changed as a result of correcting the ministerial errors listed above, we have recalculated the rate for the section A respondents to be 25.69 percent. For a more detailed discussion of the section A rate, see Memorandum to the File entitled “Analysis for the Amended Final Determination of Polyethylene Retail Carrier Bags from the People's Republic of China (PRC): Calculation of the PRC-Wide Rate Based on Adverse Facts Available and the Non-Adverse Margin for Section A Respondents Not Selected for Investigation,” dated July 8, 2004, PRC-Wide Rate Memorandum.

The PRC-Wide Rate

The PRC-wide rate we calculated in the Final Determination was 77.33 percent. As a result of correcting the ministerial errors discussed above, we have recalculated the PRC-wide rate to be 77.57 percent. For a more detailed discussion of the PRC-wide rate calculations, see the PRC-Wide Rate Memorandum.

Suspension of Liquidation

In accordance with section 735(c)(1)(b) of the Act, we will instruct U.S. Customs and Border Protection (CBP) to continue to suspend liquidation of all entries of PRCBs from the PRC (except for entries of Hang Lung and Nantong because these companies have de minimis margins). In accordance with section 351.204(e)(3) of our regulations, these exclusions only apply to merchandise produced and exported by Hang Lung and Nantong. For the other companies, we will instruct CBP to continue to require a cash deposit or the posting of a bond equal to the estimated amount by which the normal value exceeds the U.S. price as shown above. These instructions will remain in effect until further notice.

This determination is issued and published pursuant to sections 735(d) and 777(i)(1) of the Act.

Dated: July 7, 2004.
James J. Jochum,
Assistant Secretary for Import Administration.

[FR Doc. 04-15981 Filed 7-14-04; 8:45 am]

BILLING CODE 3510-DS-S